DEPARTMENT OF AGRICULTURE

Forest Service

Plumas County Resource Advisory Committee (RAC)

AGENCY: Forest Service, USDA.

ACTION: Notice of meeting.

SUMMARY: The Plumas County Resource Advisory Committee (RAC) will hold a meeting on June 2, 2006, in Quincy, CA. The purpose of the meeting is to review final applications for the 6th and final cycle of funding under the Title 2 provisions of the Secure Rural Schools and Community Self-Determination Act of 2000. Selected projects will be recommended to the Plumas (PNF) or Lassen (LNF) National Forest Supervisor for funding.

DATES & ADDRESSES: The meeting will take place from 9-4 at the Mineral Building—Plumas/Sierra County Fairgrounds, 208 Fairgrounds Road, Quincy, CA.

FOR FURTHER INFORMATION CONTACT: Lee Anne Schramel Taylor, Forest Coordinator, USDA, Plumas National Forest, P.O. Box 11500/159 Lawrence Street, Quincy, CA, 95971; (530) 283-7850; or by e-mail eataylor@fs.fed.us.

SUPPLEMENTARY INFORMATION: Agenda items for the June 2 meeting include: (1) Forest Service Update; (2) Review final applications submitted for Cycle 6 funding consideration/select projects to be recommended to Forest Supervisors for funding consideration; and, (3) Review future meeting schedule and agenda. The meetings are open to the public and individuals may address the Committee after being recognized by the Chair. Other RAC information including previous meeting agendas and minutes may be obtained at http://wwwnotes.fs.fed.us:81/r4/payments_to_states.

Dated: May 18, 2006.
Fred J. Krueger,
Public Services Staff Officer.

[FR Doc. 06-4848 Filed 5-24-06; 8:45 am]

BILLING CODE 3410-11-M